DEPARTMENT OF THE INTERIOR

Fish and Wildlife Service

[FWS-R6-ES-2017-N153; FXES11130600000-189-FF06E00000]

U.S. Endangered Species; Receipt of Recovery Permit Applications

AGENCY: Fish and Wildlife Service, Interior.

ACTION: Notice of receipt of permit applications; request for comments.

SUMMARY: We, the U.S. Fish and Wildlife Service, invite the public to comment on applications for permits to conduct activities intended to enhance the propagation or survival of endangered species. With some exceptions, the Endangered Species Act (ESA) prohibits certain activities that constitute take of listed species unless a Federal permit is issued that allows such activity. The ESA also requires that we invite public comment before issuing these permits.

DATES: To ensure consideration, we must receive your written comments by January 19, 2018.

ADDRESSES:

Document availability: The applications, as well as any comments and other materials that we receive, will be available for public inspection in hard copy for viewing by appointment between 8 a.m. and 4 p.m. Monday through Friday, except Federal holidays, at Ecological Services, U.S. Fish and Wildlife Service, P.O. Box 25486-DFC, Denver, CO 80225; telephone 719-628-2670.

Submitting Comments: You may submit comments by one of the following methods. Please specify applicant name(s) and application number(s) to which your comments pertain (e.g., Application No. TE-XXXXXX).

• Email: permitsR6ES@fws.gov. Please refer to the respective permit number (e.g., Application No. TE-XXXXXX) in the subject line of your email message.

• U.S. Mail: Ecological Services, U.S. Fish and Wildlife Service, P.O. Box 25486-DFC, Denver, CO 80225.

• Hand-delivery, Pickup, or Viewing: Call 719-628-2670 to make an appointment during regular business hours at 134 Union Blvd., Suite 645, Lakewood, CO 80228.

FOR FURTHER INFORMATION CONTACT: Kathy Konishi, Recovery Permits Coordinator, Ecological Services, 719-628-2670 (phone); permitsR6ES@fws.gov (email).

SUPPLEMENTARY INFORMATION: We, the U.S. Fish and Wildlife Service, invite the public to comment on applications for permits to conduct activities intended to promote recovery of species that are listed as endangered under the Endangered Species Act (16 U.S.C. 1531 et seq.; ESA). With some exceptions, the ESA prohibits certain activities with endangered species unless a Federal permit allows such activity. The ESA also requires that we invite public comment before issuing these permits.

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, state and Federal agencies, tribes, and the public to comment on the following applications.

Application No. | Applicant | Species | Location | Activity | Type of take | Action
TE057485-3 | Zion National Park | California condor (Gymnogyps californianus), Astragalus ampullarioides (Shivwitz milkvetch) | UT | Survey, monitor | Harass | Renew.
TE054317-1 | InterWest Wildlife & Ecological Services, Inc | Southwestern willow flycatcher (Empidonax traillii extimus) | CO, UT | Survey, monitor | Harass | Renew.
TE56825C-0 | South Dakota State University | Poweshiek skipperling (Oarisma poweshiek) | SD | Survey, monitor, voucher | Capture, harm, and harass | New.
TE165829-3 | Bureau of Land Management State Office | Lepidium barnebyanum (Barneby ridge-cress), Schoenocrambe barnebyi (Barney reed-mustard), Astragalus holmgreniorum (Holmgren milk-vetch), Lesquerella tumulosa (Kodachrome bladderpod), Pediocactus despainii (San Rafael cactus), Astragalus ampullarioides (Shivwits milkvetch), Schoenocrambe suffrutescens (shrubby reed-mustard), Sclerocactus wrightiae (Wright-fishhook cactus) | UT | Survey, monitor, voucher, collect seeds, sample tissues for genetic studies, propagate | Harm | Renew.
TE180540-1 | Bureau of Land Management Kanab Field Office | Southwestern willow flycatcher (Empidonax traillii extimus) | UT | Survey and monitor | Harass | Renew.
TE237960-3 | Power Engineers, Inc | American burying beetle (Nicrophorus americanus) | KS, NE, OK, SD, TX | Survey and monitor | Harass | Amend.

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If we decide to issue permits to any of the applicants listed in this notice, we will publish a notice in the Federal Register.

Authority

We publish this notice under section 10(c) of the Endangered Species Act of 1973, as amended (16 U.S.C. 1531 et seq.)

Michael Thabault,
Deputy Assistant Regional Director Mountain-Prairie Region.

[FR Doc. 2017-27398 Filed 12-19-17; 8:45 am]

BILLING CODE 4333-15-P